ENVIRONMENTAL PROTECTION AGENCY

[EPA-HQ-OPPT-2023-0520; FRL-11518-01-OCSPP]

Modifications to the Safer Choice Standard and Potential Implementation of a Safer Choice Cleaning Service Certification Program; Notice of Availability, Webinar and Request for Comment

AGENCY: Environmental Protection Agency (EPA).

ACTION: Notice.

SUMMARY: The Environmental Protection Agency (EPA) is announcing the availability of and seeking public comment on a document that announces several proposed changes to EPA's Safer Choice Standard (“the Standard”), including a name change to the Safer Choice and Design for the Environment (DfE) Standard, an update to the packaging criteria, the addition of a Safer Choice certification for cleaning service providers, a provision allowing for preterm partnership termination under exceptional circumstances, and the addition of several product and functional use class requirements. Safer Choice helps consumers, businesses, and purchasers find products that perform and contain ingredients that are safer for human health and the environment. DfE is a similar program currently used by EPA for the purpose of helping consumers and commercial buyers identify antimicrobial products that meet the health and safety standards of the normal pesticide registration process required by the Federal Insecticide, Fungicide and Rodenticide Act (FIFRA) as well as other EPA DfE criteria. The Agency will hold a webinar and is requesting written stakeholder comment on the proposed changes to the Standard.

DATES:

Webinar: December 19, 2023, 2-3 p.m. EST. To receive the webcast meeting link and audio teleconference information before the meeting, you must register by 5 p.m. EST on December 18, 2023.

Special Accommodations: To allow EPA time to process your request for special accommodations, please submit the request by December 12, 2023.

Written Comments: Comments must be received on or before January 16, 2024.

ADDRESSES:

Webinar: Register online at https://abtassociates.webex.com/weblink/register/r9dc802a48d8b04aca3fbf9da33f6e603.

Special Accommodations: Please contact the person listed under FOR FURTHER INFORMATION CONTACT.

Written Comments: Submit your comments, identified by docket identification (ID) number EPA-HQ-OPPT-2023-0520, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT:

For technical information contact: Melanie Adams, Safer Choice Program (7406M), Office of Chemical Safety and Pollution Prevention, Environmental Protection Agency, 1201 Constitution Ave. NW, Washington, DC 20004; telephone number: (202) 564-1843; email address: adams.melanie@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. Does this action apply to me?

You may be affected by this action if you participate in or apply for certification under the Safer Choice or Design for the Environment (DfE) programs and use or hope to use the programs' label or logo, respectively, on your products. Also potentially affected are consumers, institutional purchasers, retailers, and distributors of Safer Choice- or DfE-certified products who use the label or logo to identify products that have met the Agency's safer-product criteria. The following list of North American Industrial Classification System (NAICS) codes is not intended to be exhaustive, but rather provides a guide to help readers determine whether this document applies to them. Affected entities may include:

• Other Basic Inorganic Chemical Manufacturing (NAICS code 325180);

• All Other Basic Organic Chemical Manufacturing (Primary) (NAICS code 325199);

• Pesticide and Other Agricultural Chemical Manufacturing (NAICS code 325320);

• Paint and Coating Manufacturing (NAICS code 325510);

• Adhesive Manufacturing (NAICS code 325520);

• Soap and Other Detergent Manufacturing (NAICS code 325611);

• Polish and Other Sanitation Good Manufacturing (NAICS code 325612);

• Surface Active Agent Manufacturing (Primary) (NAICS code 325613);

• Toilet Preparation Manufacturing (NAICS code 325620);

• Photographic Film, Paper, Plate, and Chemical Manufacturing (NAICS code 325992);

• All Other Miscellaneous Chemical Product and Preparation Manufacturing (NAICS code 325998);

• Service Establishment Equipment and Supplies Merchant Wholesalers (Primary) (NAICS code 423850);

• Other Chemical and Allied Products Merchant Wholesalers (Primary) (NAICS code 424690);

• Supermarkets and Other Grocery (except Convenience) Stores (Primary) (NAICS code 445110);

• All Other Specialty Food Stores (NAICS code 445299);

• Pharmacies and Drug Stores (NAICS code 446110);

• Office Supplies and Stationery Stores (NAICS code 453210);

• All Other Miscellaneous Store Retailers (except Tobacco Stores) (Primary) (NAICS code 453998);

• Electronic Shopping and Mail-Order Houses (NAICS code 454110);

• Research and Development in Biotechnology (except Nanobiotechnology) (Primary) (NAICS code 541714);

• Facilities Support Services (NAICS code 561210). Janitorial Services (NAICS code 561720);

• Carpet and Upholstery Cleaning Services (NAICS code 561740);

• Elementary and Secondary Schools (NAICS code 611110);

• Colleges, Universities, and Professional Schools (NAICS code 611310);

• Promoters of Performing Arts, Sports, and Similar Events with Facilities (NAICS code 711310);

• Drycleaning and Laundry Services (NAICS code 8123);

• Civic and Social Organizations (Primary) (NAICS code 813410);

• Business Associations (Primary) (NAICS code 813910);

• Other General Government Support (NAICS code 921190); and

• Administration of Air and Water Resource and Solid Waste Management Programs (Primary) (NAICS code 924110).

B. What action is the Agency taking?

EPA is issuing a document, entitled “Proposed Revisions to EPA's Safer Choice Standard,” that proposes several changes to the existing Safer Choice Standard. The Agency is proposing new packaging requirements to ensure that its Standard sets a suitable and up-to-date bar for sustainable packaging and to respond to increased demand for more sustainable practices. The Agency is also proposing the creation of a Safer Choice Cleaning Service Certification for cleaning service providers that use Safer Choice-certified products for cleaning and DfE-certified products for disinfecting. EPA is proposing several additional changes, including a provision allowing for preterm partnership termination given exceptional circumstances, the addition of several product class requirements, and other changes. EPA is additionally proposing several technical changes throughout the Standard. The Agency is requesting comment on the changes that as indicated in the document entitled “Proposed Revisions to EPA's Safer Choice Standard” and may make further programmatic changes based on the comments received.

EPA is also announcing a stakeholder engagement opportunity through a webinar and is requesting stakeholder comment on the Standard updates. During the webinar, EPA will give a presentation on the Agency's proposed plans for updating the Standard. After the presentation, there will be time for attendees to ask questions. The Agency will respond to those questions during the webinar and asks for written submission of any comments after the webinar.

C. What should I consider as I prepare my comments for EPA?

1. Submitting CBI.

Do not submit Confidential Business Information (CBI) to EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Multimedia submissions.

Multimedia submissions (audio, video, etc.) must be accompanied by a written comment. The written comment is considered the official comment and should include discussion of all points you wish to make. The EPA will generally not consider comments or comment contents located outside of the primary submission (i.e., on the web, cloud, or other file sharing system).

3. Tips for preparing your comments.

When preparing and submitting your comments, see the commenting tips at https://www.epa.gov/dockets/comments.html. Please note that once submitted, comments cannot be edited or removed from the docket. The EPA may publish any comment received to its public docket.

In addition, information provided in response to this request may result in further programmatic changes based on the comments received. To facilitate commenting, EPA is requesting comment on specific aspects of the changes as indicated in the document titled “Proposed Revisions to EPA's Safer Choice Standard” that is available in the docket. Please identify the topic you are responding to when submitting your comments. Note that you do not need to address every request for comment and may focus on those where you have relevant expertise or experience.

II. Background

A. What is the Safer Choice program?

As part of its environmental mission, the Safer Choice program partners with businesses to help consumers and commercial buyers identify products with safer chemical ingredients, without sacrificing quality or performance. The Safer Choice program certifies products containing ingredients that have met the program's specific and rigorous human health and environmental toxicological criteria. The Safer Choice program allows companies to use its label on certified products that contain safer ingredients and perform, as determined by expert evaluation. The Safer Choice program certification represents a high level of achievement in formulating products that are safer for people and the environment. For more information on the Safer Choice program, please see: https://www.epa.gov/saferchoice.

B. What is the DfE program?

The DfE program is a similar program currently used by EPA for the purpose of helping consumers and commercial buyers identify antimicrobial products that meet the health and safety standards of the normal pesticide registration process required by FIFRA as well as meeting the DfE certification criteria (as described in the Safer Choice Standard). For more information on the DfE program, please see: https://www.epa.gov/pesticide-labels/learn-about-design-environment-dfe-certification.

Authority: 15 U.S.C. 2601 et seq.

Dated: November 7, 2023.
Michal Freedhoff,
Assistant Administrator, Office of Chemical Safety and Pollution Prevention.

[FR Doc. 2023-24988 Filed 11-13-23; 8:45 am]

BILLING CODE 6560-50-P